FEDERAL COMMUNICATIONS COMMISSION

47 CFR Part 73

[DA 01-700; MM Docket No. 99-330, RM-9677]

Radio Broadcasting Services; Kankakee and Park Forest, IL

AGENCY: Federal Communications Commission.

ACTION: Final rule.

SUMMARY: The Commission, at the request of Gene Milner Broadcasting Co, Inc., reallots Channel 260B from Kankakee to Park Forest, Illinois, and modifies Station WRZA(FM)'s license accordingly. See 65 FR 3406, January 25, 2000. Channel 260B can be reallotted to Park Forest in compliance with the Commission's minimum distance separation requirements without the imposition of a site restriction at petitioner's presently licensed site. The coordinates for Channel 260B at Park Forest are 41-18-04 North Latitude and 87-49-35 West Longitude.

DATES: Effective May 7, 2001.

FOR FURTHER INFORMATION CONTACT: Sharon P. McDonald, Mass Media Bureau, (202) 418-2180.

SUPPLEMENTARY INFORMATION: This is a synopsis of the Commission's Report and Order, MM Docket No. 99-330, adopted March 14, 2001, and released March 23, 2001. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

PART 73—RADIO BROADCAST SERVICES

1. The authority citation for part 73 continues to read as follows:

Authority: 47 U.S.C. 54, 303, 334, and 336.

§ 73.202 [Amended]

2. Section 73.202(b), the Table of FM Allotments under Illinois, is amended by removing Channel 260B at Kankakee; and adding Park Forest, Channel 260B.

Federal Communications Commission.
John A. Karousos,
Chief, Allocations Branch, Policy and Rules Division, Mass Media Bureau.

[FR Doc. 01-8242 Filed 4-3-01; 8:45 am]

BILLING CODE 6712-01-P